DEPARTMENT OF COMMERCE

International Trade Administration

[A-570-905]

Certain Polyester Staple Fiber From the People's Republic of China: Final Results of Antidumping Duty Administrative Review; 2011-2012

AGENCY: Import Administration, International Trade Administration, Department of Commerce.

SUMMARY: On March 6, 2013, the Department of Commerce (the “Department”) published the Preliminary Results of the 2011-2012 administrative review of the antidumping duty order on certain polyester staple fiber (“PSF”) from the People's Republic of China (“PRC”).¹ The period of review (“POR”) is June 1, 2011, through May 31, 2012. We received no comments from interested parties. The final dumping margin is listed in the “Final Results of Review” section below.

¹ See Certain Polyester Staple Fiber From the People's Republic of China: Preliminary Results and Rescission in Part of the 2011-2012 Antidumping Duty Administrative Review, 78 FR 14512 (March 6, 2013) (“Preliminary Results”).

DATES: Effective Date: June 28, 2013.

FOR FURTHER INFORMATION CONTACT: Steven Hampton, AD/CVD Operations, Office 9, Import Administration, International Trade Administration, Department of Commerce, 14th Street and Constitution Avenue NW., Washington, DC 20230; telephone: (202) 482-0116.

SUPPLEMENTARY INFORMATION:

Background

On March 6, 2013, the Department published the Preliminary Results of the administrative review of the antidumping duty order on certain polyester staple fiber from the PRC. We invited interested parties to comment on the Preliminary Results. None were received. The Department has conducted this administrative review in accordance with section 751(a) of the Tariff Act of 1930, as amended (“the Act”).

Scope of the Order

The merchandise subject to the order is synthetic staple fibers, not carded, combed or otherwise processed for spinning, of polyesters measuring 3.3 decitex (3 denier, inclusive) or more in diameter. This merchandise is cut to lengths varying from one inch (25 mm) to five inches (127 mm). The subject merchandise may be coated, usually with a silicon or other finish, or not coated. PSF is generally used as stuffing in sleeping bags, mattresses, ski jackets, comforters, cushions, pillows, and furniture.

The following products are excluded from the scope of the order: (1) PSF of less than 3.3 decitex (less than 3 denier) currently classifiable in the Harmonized Tariff Schedule of the United States (“HTSUS”) at 5503.20.0025 and known to the industry as PSF for spinning and generally used in woven and knit applications to produce textile and apparel products; (2) PSF of 10 to 18 denier that are cut to lengths of 6 to 8 inches and that are generally used in the manufacture of carpeting; and (3) low-melt PSF defined as a bi-component fiber with an outer, non-polyester sheath that melts at a significantly lower temperature than its inner polyester core (classified at HTSUS 5503.20.0015).

Certain PSF is classifiable under the HTSUS numbers 5503.20.0045 and 5503.20.0065. Although the HTSUS numbers are provided for convenience and customs purposes, the written description of the merchandise under the order is dispositive.

PRC-Wide Entity

In the Preliminary Results, the Department noted that Far Eastern Industries (Shanghai) Ltd. and Far Eastern Polychem Industries (collectively “Far Eastern”) does not have a separate rate, and, therefore, it is under review as part of the PRC-wide entity.² Also in the Preliminary Results, the Department determined that Huvis Sichuan Chemical Fiber Corp. and Huvis Sichuan Polyester Fiber Ltd. (collectively “Huvis Sichuan”) failed to demonstrate its continued eligibility for a separate rate, and is considered to be part of the PRC-wide entity. After issuing the Preliminary Results, the Department received no comments from interested parties. Therefore, for these final results, in accordance with section 776(a) and (b) of the Act, and as explained in more detail in the Preliminary Results, the Department continues to find that Far Eastern and Huvis Sichuan are part of the PRC-wide entity.

² See Preliminary Results, 78 FR at 14513, and accompanying Decision Memorandum for Preliminary Results and Rescission in Part of the 2011-2012 Antidumping Duty Administrative Review: Certain Polyester Staple Fiber from the People's Republic of China at 5.

Final Results of Review

The Department has made no changes to the Preliminary Results. As a result of our review, we determine that a dumping margin of 44.3 percent exists for the PRC-wide entity ³ for the POR.

³ The PRC-wide entity includes Far Eastern and Huvis Sichuan.

Assessment

Upon issuance of the final results, the Department will determine, and U.S. Customs and Border Protection (“CBP”) shall assess, antidumping duties on all appropriate entries covered by this review.⁴ The Department intends to issue assessment instructions to CBP 15 days after the publication date of the final results of this review. The Department announced a refinement to its assessment practice in non-market economy (“NME”) cases.⁵ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁶ For the PRC-wide entity, we will instruct CBP to assess antidumping duties at an ad valorem rate equal to the dumping margin published above.

⁴ See 19 CFR 351.212(b)(1).

⁵ See Non-Market Economy Antidumping Proceedings: Assessment of Antidumping Duties, 76 FR 65694 (October 24, 2011).

⁶ See id.

Cash Deposit Requirements

The following cash deposit requirements will be effective upon publication of the final results of this administrative review for shipments of the subject merchandise from the PRC entered, or withdrawn from warehouse, for consumption on or after the publication date of the final results, as provided by sections 751(a)(2)(C) of the Act: (1) For previously investigated or reviewed PRC and non-PRC exporters not listed above that received a separate rate in a prior segment of this proceeding, the cash deposit rate will continue to be the existing exporter-specific rate published for the most recently completed segment of this proceeding in which that exporter participated; (2) for all PRC exporters of subject merchandise that have not been found to be entitled to a separate rate, the cash deposit rate will be the rate for the PRC-wide entity, 44.30 percent; and (3) for all non-PRC exporters of subject merchandise which have not received their own rate, the cash deposit rate will be the rate applicable to the PRC exporter that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

This notice also serves as a reminder to parties subject to the administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

The Department is issuing and publishing these final results of administrative review in accordance with sections 751(a)(1) and 777(i)(1) of the Act.

Dated: June 20, 2013.
Ronald K. Lorentzen,
Acting Assistant Secretary for Import Administration.

[FR Doc. 2013-15459 Filed 6-27-13; 8:45 am]

BILLING CODE 3510-DS-P